DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of November, 2002.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,185; Juno, Inc., Blytheville, AR

TA-W-42,016; National Torch Tip, Inc., Pittsburgh, PA

TA-W-42,051; Citation Corp.-Interstate Forgings Industries, Milwaukee, WI

TA-W-41,970; Dimension Tech, Inc., Ironwood, MI

TA-W-41,889; United Container Machinery, Glen Arm, Maryland

In the following cases, the investigation revealed that the criteria for eligibility have not been met for the reasons specified.

Increased imports did not contribute importantly to worker separations at the firm.

TA-W-42,300; AbelConn, LLC, Cokato, MN

TA-W-42,831; Metaldyne, Inc. (formerly Accura Tool & Mold Co., Inc.), Crystal Lake, IL

TA-W-42,068; Motorola, Inc., SPS, Chandler, AZ

TA-W-41,730; Motorola, Inc., RF-1, Phoenix, AZ

TA-W-41,859; King Press, Joplin, MO

TA-W-42,298; Massillon Stainless, Inc., Massillon, OH

TA-W-42,211; Motorola, Inc., Semiconductor Products Sector, Bipolar Manufacturing Center (BMC), Mesa, AZ

The workers firm does not produce an article as required for certification under Section 222 of the Trade Act of 1974.

TA-W-42,235; The Design Room of Cattiva, Inc., New York, NY

TA-W-50,108 &A; Ericsson, Inc., Global Services North America, Regional Supply and Support Center, Plano, TX and Richardson, TX

TA-W-42,322, A & B; Kelly Staff Leasing, Inc., San Diego, CA, Kelly Services, Inc., Troy, MI and Delphi Automotive Systems, El Paso, TX

The investigation revealed that criteria (2) has not been met. Sales or production did not decline during the relevant period as required for certification.

TA-W-42,294; Glucona America, Inc., Janesville, WI

Affirmative Determinations for Worker Adjustment Assistance

The following certifications have been issued; the date following the company name and location of each determination references the impact date for all workers of such determination.

TA-W-42,296; Westwood Industries LLC, Luxury Home Group, New York, NY: October 2, 2001.

TA-W-42,274; Angelica Image Apparel, a Div. of Angelica Corp., Alamo, TN: May 23, 2001.

TA-W-42,309; Advanced Glassfiber Yarns, Huntingdon, PA: October 15, 2001.

TA-W-40,842; Milwaukee Electric Tool Corp., Blythville, AR: November 5, 2000.

TA-W-42,087; Milwaukee Electric Tool Corp., Brookfield, WI: June 19, 2001.

TA-W-42,049; The Boeing Company, Boeing Commercial Aircraft, Wichita Div., Tulsa Business Unit, Tulsa, OK: July 17, 2001.

TA-W-42,044; Siemens VDO Automotive, Lima, OH: August 21, 2001.

TA-W-41,581; The Cincinnati Gear Company, a/k/a Cincinnati Steel Treating (C.S.T.), Cincinnati, OH: May 1, 2001. July 22, 2001.

TA-W-41,529 & A; Mexican Industries, Detroit, MI and Dearborn, MI: January 23, 2001.

TA-W-42,355; Ferro Corp., East Liverpool Plant, East Liverpool, OH: October 23, 2001.

TA-W-42,340; Titan Wheel Corp. of Virginia, Saltville, VA: October 25, 2001.

TA-W-42,339; Doyle Shirt Manufacturing, Doyle, TN: October 24, 2001.

TA-W-42,333; Dunbrooke Sportswear, a Div. of American Marketing Industries, Inc., El Dorado Springs, MO: October 21, 2001.

TA-W-42,231; The Doe Run Resources Co., The Southeast Missouri Mining and Milling Div., Viburnum, MO: September 25, 2001.

TA-W-42,226; R and A Investments, d/b/a Mini-Circuits, Hialeah, FL: September 16, 2001.

TA-W-42,222; EHV-Weidmann Idustries, Inc., a Subsidiary of Wicor Americas, St. Johnsbury, VT

TA-W-42,206; Hoffco/Comet Industries, In., Rushville, IN: September 16, 2001.

TA-W-42,141; Manufacturers' Services Limited, Midwest Operations, Mt. Prospect, IL: August 27, 2001.

TA-W-42,134; Tyco Electronics, Printed Circuit Group, Melbourne Div., Melbourne, FL: August 16, 2001.

TA-W-42,055; Plymouth, Inc., Radford, VA: July 18, 2001.

TA-W-41,618 & A; Ethan Allen, Inc., Casegoods Factory, Randolph, VT and Lumber Mill, Orleans, VT: May 29, 2001.

The following certifications have been issued. The requirements of (a)(2)(A) (increased imports) of Section 222 have been met.

TA-W-50,002; Longview Fibre Co., Leavenworth Wood Products, Leavenworth, WA: November 4, 2001.

TA-W-50,097; S. Goldberg & Co., Inc., Hackensack, NJ: November 4, 2001.

TA-W-50,069; L.W. Packard and Co., Inc., Ashland, NH: November 8, 2001.

TA-W-50,041 & A,B,C; Woods Industries, Inc., Jasonville, IN, Worthington, IN, Mooresville, IN and Carmel, IN: November 6, 2001.

TA-W-50,027; Stimson Lumber Co., Libby, MT: November 6, 2001.

The following certifications have been issued. The requirements of (a)(2)(B) (shift in production) of Section 222 have been met.

TA-W-50,021; Buehler Motor, Inc., Kinston, NC: November 5, 2001.

TA-W-50,053; Advance Transformer Corp., Monroe, WI: November 1, 2002.

TA-W-50,014; Kwikset Corp., a Subsidiary of Black and Decker Corp., Waynesboro, GA: November 5, 2001.

TA-W-50,046; Crown North America, a Div. of Leggett and Platt, Inc., Wooster, OH: November 7, 2001.

TA-W-50,116; J. Star Bodco, Inc., a Subsidiary of Industrie Bodco, Inc., Fort Atkinson, WI: November 16, 2001.

TA-W-50,081 & A; Drusco, Inc., Miami, FL and The Cutting Company, Inc., Miami, FL: November 13, 2001.

TA-W-50,070; Eaton Corporation, Fluid Power Div., Mooresville, NC: November 7, 2001.

TA-W-50,062; After Six, Inc., Athens, GA: November 5, 2001.

TA-W-50,055; Kraft Foods, Kool-Aid Plant, Chicago, IL: November 8, 2001.

TA-W-50,018; Court Metal Finishing, Inc., d/b/a Valve Finishing Co., Mentor, OH: November 5, 2001.

The following certification has been issued. The workers qualify as adversely affected secondary workers under Section 222.

TA-W-50,006; Sherman Lumber Company, Sherman Station, ME: November 4, 2001.

Also, pursuant to Title V of the North American Free Trade Agreement Implementation Act (P.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of November, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06452; National Torch Tip, Inc., Pittsburgh, PA

NAFTA-TAA-07571; International Comfort Products Corp. (USA), Div. of Carrier Corp., Lewisburg, TN

NAFTA-TAA-07594; Juno, Inc., Blytheville, AR

NAFTA-TAA-07640; AbelConn, LLC, Cokato, MN

NAFTA-TAA-05348; GE Lexington Lamp Plant, Lexington, KY

NAFTA-TAA-06333; King Press, Joplin, MO

NAFTA-TAA-06338; Metaldyne, Inc., (Formerly Accura Tool and Mold Co., Inc.), Crystal Lake, IL

NAFTA-TAA-06461; Dimension Tech, Inc., Ironwood, MI

NAFTA-TAA-06470; Citation Corp.-Interstate Forgings Industries, Milwaukee, WI

NAFTA-TAA-06528; U.S. Manufacturing Corp., Port Huron, MI

NAFTA-TAA-06529; Coleman Cable, Inc., El Paso, TX

NAFTA-TAA—07559; Makita Corporation of America, Buford, GA

NAFTA-TAA-07649; Graphic Sportswear Unlimited, Inc., Austin, TX

The investigation revealed that the criteria for eligibility have not been met for the reasons specified.

The investigation revealed that workers of the subject firm did not produce an article within the meaning of Section 250(a) of the Trade Act, as amended.

NAFTA-TAA-07650 & A, B; Kelly Staff Leasing, Inc., San Diego, CA, Kelly Services, Inc., Troy, MI and Delphi Automotive Systems, El Paso, TX

NAFTA-TAA-07628; Health South, Occupational Medical Clinic, El Paso, TX

NAFTA-TAA-06511; Netmanage, Inc., Bellingham Engineering, Bellingham, WA

The investigation revealed that criteria (1) has not been met. A significant number or proportion of the workers in such workers' firm or an appropriate subdivision (including workers in any agricultural firm or appropriate subdivision thereof) did not become totally or partially separated from employment as required for certification.

NAFTA-TAA-06814; State of Alaska Commercial Fisheries Entry Commission Permit #61971Q, Koligangly, AK

NAFTA-TAA-07044; State of Alaska Commercial Fisheries Entry Commission Permit #55779F, Togiak, AK

NAFTA-TAA-07063; State of Alaska Commercial Fisheries Entry Commission Permit #57325J, Togiak, AK

NAFTA-TAA-07330; State of Alaska Commercial Fisheries Entry Commission Permit #57511L, Naknek, AK

NAFTA-TAA-06775; State of Alaska Commercial Fisheries Entry Commission Permit #58360M, Newhalen, AK

NAFTA-TAA-06749; State of Alaska Commercial Fisheries Entry Commission Permit #60501X, Egegik, AK

NAFTA-TAA-06713; Permit #61361Q, Dillingham, AK

NAFTA-TAA-06635; State of Alaska Commercial Fisheries Entry Commission Permit #55222A, Dillingham, AK

NAFTA-TAA-06566; State of Alaska Commercial Fisheries Entry Commission Permit #57687H, Clarks, AK

NAFTA-TAA-07424; State of Alaska Commercial Fisheries Entry Commission Permit #58234H, Dillingham, AK

NAFTA-TAA-07354; Permit #58022H, Naknek, AK

NAFTA-TAA-07338; Permit #SO4T58023, Naknek, AK

NAFTA-TAA-07331; State of Alaska Commercial Fisheries Entry Commission Permit #65830W, Naknek, AK

The investigation revealed that criteria (2) has not been met. Sales or production, or both, did not decline during the relevant period as required for certification.

NAFTA-TAA-06728; State of Alaska Commercial Fisheries Entry Commission Permit #57995V, Dillingham, AK

NAFTA-TAA-07194; State of Alaska Commercial Fisheries Entries Commission Permit #61231Q, Dillingham, AK

NAFTA-TAA-06893; State of Alaska Commercial Fisheries Entries Commission Permit #55324S, Naknek, AK

NAFTA-TAA-06586; State of Alaska Commercial Fisheries Entries Commission Permit #67590E, Dillingham, AK

The investigation revealed that criteria (2) and criteria (3) have not been met. Sales or production, or both, did not decline during the relevant period as required for certification. Imports Canada or Mexico did not contribute importantly to workers' separations.

NAFTA-TAA-07632; Massillon Stainless, Inc., Massillon, OH

Affirmative Determinations NAFTA-TAA

NAFTA-TAA-05693; Braeco, Weaverville, NC: June 8, 2000.

NAFTA-TAA-06567; State of Alaska Commercial Fisheries Entry Commission, Permit #57436I, Clarks Point, AK: September 5, 2001.

NAFTA-TAA-06667; State of Alaska Commercial Fisheries Entry Commission Permit #60406B, Dillingham, AK: September 5, 2001.

NAFTA-TAA-06906; Permit #60541O, Naknek, AK: September 5, 2001.

NAFTA-TAA-07583; The Doe Run Resources Company, The southeast Missouri Mining and Milling Div., Viburnum, MO: September 25, 2001.

NAFTA-TAA-05626; Milwaukee Electric Tool Corp., Blythville, AR: December 5, 2000.

NAFTA-TAA-06524; Milwaukee Electric Tool Corp., Brookfield, WI: June 19, 2001.

I hereby certify that the aforementioned determinations were issued during the months of November, 2002. Copies of these determinations are available for inspection in Room C-5311, U.S. Department of Labor, 200 Constitution Avenue, NW., Washington, DC 20210 during normal business hours or will be mailed to persons who write to the above address.

Dated: December 4, 2002.
Edward A. Tomchick,
Director, Division of Trade Adjustment Assistance.

[FR Doc. 02-32236 Filed 12-20-02; 8:45 am]

BILLING CODE 4510-30-P